DEPARTMENT OF ENERGY

Federal Energy Regulatory Commission

[Project No. 2035-039 Colorado]

City and County of Denver; Notice of Availability of Environmental Assessment

October 5, 2004.

In accordance with the National Environmental Policy Act of 1969, as amended, and the Federal Energy Regulatory Commission's regulations (18 CFR part 380), Commission staff have reviewed an application for amendment of license for the Gross Reservoir Project, filed April 22, 2004, to: (1) Change the location of the project powerhouse and install two turbines with synchronous generators, (2) install approximately 580 feet of new penstock, (3) modify the alignment of the transmission lines, (4) construct a parking lot at the proposed powerhouse; and (5) increase project generation capacity. The project is located on South Boulder Creek, near the city of Boulder, in Boulder County, Colorado. The project occupies Federal lands managed by the U.S. Forest Service, Roosevelt National Forest, and the Bureau of Land Management.

In the EA, Commission staff has analyzed the probable environmental effects of the proposed amendment and have concluded that approval of the proposal, with appropriate environmental measures, would not constitute a major Federal action significantly affecting the quality of the human environment.

A copy of the EA is attached to a Commission order titled “Order Amending License,” which was issued October 1, 2004, and is available for review and reproduction at the Commission's Public Reference Room, located at 888 First Street, NE., Room 2A, Washington, DC 20426. The EA may also be viewed on the Commission's Web site at http://www.ferc.gov using the “elibrary” link. Enter the docket number (prefaced by P-) and excluding the last three digits, in the docket number field to access the document. For assistance, contact FERC Online Support at FERCOnlineSupport@ferc.gov or toll-free at (866) 208-3676, or for TTY, contact (202) 502-8659.

Magalie R. Salas,
Secretary.

[FR Doc. E4-2585 Filed 10-12-04; 8:45 am]

BILLING CODE 6717-01-P